NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 25, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-005

1. Applicant: Jean Pennycook, 6135 N. College Avenue, Fresno, CA 93704.

Activity for Which Permit Is Requested

Take, Enter Antarctic Specially Protected Areas (ASPA's), and Import into the U.S.A. The applicant plans to salvage up to 25 various samples of Adelie penguins (bird parts, feathers, bones, skulls, and shells) and up to 15 of South Polar Skua each year. Samples will be collected from the penguin rookeries located at Beaufort Island (ASPA 105), Cape Royds (ASPA 121), and Cape Crozier (ASPA 124). The samples will be imported into the U.S.A. for education outreach activities. Samples will be deposited with museums, schools, zoos, and aquariums.

Location

Ross Island vicinity, Beaufort Island (ASPA 105), Cape Royds (ASPA 121), and Cape Crozier (ASPA 124).

Dates

October 1, 2012 to February 28, 2015.

Nadene G. Kennedy,
Permit Officer, Office of Polar Programs.

[FR Doc. 2012-12525 Filed 5-23-12; 8:45 am]

BILLING CODE 7555-01-P